ENVIRONMENTAL PROTECTION AGENCY

[FLR-9971-99-Region 10]

Proposed Re-Issuance of a General NPDES Permit (GP) for Small Suction Dredges in Idaho

AGENCY: Environmental Protection Agency, Region 10.

ACTION: Proposed reissuance of a general permit.

SUMMARY: The EPA is proposing to reissue a National Pollutant Discharge Elimination System (NPDES) General Permit (IDG370000) for small suction dredge operations in Idaho (intake nozzle size of 5 inches in diameter or a diametric equivalent or less and with equipment rated at 15 horsepower or less). The current permit established effluent limitations, standards, prohibitions and other conditions on discharges from covered facilities. These conditions are based on existing national effluent guidelines, the state of Idaho's Water Quality Standards and material contained in the administrative record. The EPA is proposing to retain most conditions of the current General Permit. A description of the basis for the conditions and requirements of the proposed general permit is given in the Fact Sheet. This is also notice of the draft Section 401 Certification provided by the state of Idaho.

DATES: Interested persons may submit comments on the proposed reissuance of the general permit to EPA, Region 10 at the address below. Comments must be postmarked by January 29, 2018.

ADDRESSES: Comments on the draft General Permit should be sent to Director, Office of Water and Watersheds; USEPA Region 10; 1200 Sixth Avenue, Suite 900, OWW-191; Seattle, WA 98101 and may also be submitted by fax to (206) 553-1280 or electronically to godsey.cindi@epa.gov.

Comments on the draft § 401 Certification should be sent to Nicole Deinarowicz, Idaho Department of Environmental Quality, 1410 N. Hilton, Boise, Idaho 83706 or electronically to Nicole.Deinarowicz@deq.idaho.gov.

FOR FURTHER INFORMATION CONTACT: These documents may be found on the EPA Region 10 website at www.epa.gov/npdes-permits/draft-npdes-general-permit-small-suction-dredge-placer-miners-idaho. Copies of the proposed general permit and Fact Sheet are also available upon request. Requests may be made to Audrey Washington at (206) 553-0523 or to Cindi Godsey at (206) 553-1676. Requests may also be electronically mailed to: washington.audrey@epa.gov, godsey.cindi@epa.gov, or peak.tracy@epa.gov.

SUPPLEMENTARY INFORMATION:

EXECUTIVE ORDER 12866: This action is not a significant regulatory action and was therefore not submitted to the Office of Management and Budget (OMB) for review.

Dated: December 5, 2017.
Michael J. Lidgard,
Acting Director, Office of Water & Watersheds, Region 10.

[FR Doc. 2017-26896 Filed 12-12-17; 8:45 am]

BILLING CODE 6560-50-P